DEPARTMENT OF TRANSPORTATION

Federal Aviation Administration

Aviation Rulemaking Advisory Committee (ARAC); New Task Assignment for the ARAC: Establishment of Airman Certification System Working Group

AGENCY: Federal Aviation Administration (FAA), DOT.

ACTION: Notice.

SUMMARY: The FAA assigned the ARAC a new task arising from recommendations of the ARAC Airman Testing Standards and Training Working Group (ATSTWG). The ATSTWG recommended ways to ensure that the FAA's airman testing and training materials better support reduction of fatal general aviation accidents. The FAA and the Aviation Industry jointly seek to improve airman training and testing by establishing an integrated, holistic airman certification system that clearly aligns testing with certification standards, guidance, and reference materials, and maintains that alignment. The new task is to establish an Airman Certification System Working Group (ACSWG) that will provide expert assistance and industry views to the FAA's Flight Standards Service (AFS) on the development, modification, and continued alignment of the major components of the airman certification system.

This action item informs the public of the new ARAC's task and solicits membership for the new ACSWG.

FOR FURTHER INFORMATION CONTACT: Van L. Kerns, Manager, Regulatory Support Division, FAA Flight Standards Service, AFS 600, FAA Mike Monroney Aeronautical Center, P.O. Box 25082, Oklahoma City, OK 73125; telephone (405) 954-4431, email van.l.kerns@faa.gov.

SUPPLEMENTARY INFORMATION:

Background

The FAA established ARAC to provide advice and recommendations to the FAA Administrator on the FAA's rulemaking activities. ARAC's objectives are to improve the development of the FAA's regulations by providing information, advice, and recommendations related to aviation issues.

On September 21, 2011, the FAA chartered the Airman Testing Standards and Training Aviation Rulemaking Committee (ARC) for the U.S. aviation community to develop recommendations for more effective training and testing in the areas of aeronautical knowledge and flight proficiency required for safer operation in today's National Airspace System (NAS). The FAA's charge to the ARC was to help ensure that FAA's technical information related to existing standards for airman knowledge and skill tests, computer testing supplements, knowledge test guides, practical test standards and training handbooks incorporates the most current, relevant, and effective approaches to training and testing. The FAA specifically tasked the ARC with providing recommendations on a process for ongoing stakeholder participation in developing the content of these materials, and methodologies for developing better test item bank questions.

On August 30, 2012, the ARAC accepted the FAA's assignment of a new task in response to several of the ARC's recommendations. ARAC established the ATSTWG to address the private pilot, flight instructor, and instrument rating training and testing materials by developing an integrated Airman Certification Standards (ACS) document for each one. The FAA also tasked the ATSTWG to develop a detailed proposal to realign and, as appropriate, streamline and consolidate existing FAA guidance material (e.g., handbooks) with each integrated ACS documents; and to propose methodologies to ensure that knowledge test item bank questions are consistent with both the ACS documents and the test question development principles set forth in the ARC's recommendations.

On September 30, 2013, the ARAC submitted to the FAA the ATSTWG's final report and recommendations to improve airman training and testing by establishing an integrated, holistic airman certification system that clearly aligns testing with certification standards, guidance, and reference materials, and maintains that alignment. The ATSTWG recommended specific steps the FAA should take to adopt the proposed Airman Certification System approach, and steps for its ongoing management. One of these steps is for the FAA to establish an ACSWG to assist the agency in ensuring that the content of its ACS, guidance, and knowledge testing materials is relevant and current; and to ensure that all components of the airman certification system are maintained in alignment.

The Task

On December 2013, the ARAC discussed the proposed actions for this tasking. This notice advises the public that the FAA has assigned, and the ARAC has accepted, a new task to establish the ACSWG. The FAA has specifically tasked the ACSWG to support the FAA's goal to enhance general aviation safety and reduce the fatal general aviation accident rate by providing a means for the aviation industry to provide expert assistance and industry views to the FAA's Flight Standards Service (AFS) on the development, modification, and continued alignment of the major components of the airman certification system, which include:

1. The ACS for airman certificates and ratings (i.e. 8081-series documents);

2. Associated training guidance material (e.g., H-series handbooks);

3. Test management (e.g., test question development, test question boarding, test composition/test “mapping,” and CT-8080-series figures); and

4. Reference materials, to include AFS directives and Aviation Safety Inspector guidance; FAA Orders, Advisory Circulars (ACs), and other documents pertaining to the airman certification system.

The ACSWG is expected to develop a report describing its work on each of the listed elements. Any disagreements should be documented, including the rationale for each position and the reasons for the disagreement.

In developing this report, the ACSWG shall familiarize itself with:

1. A report to the FAA from the Airman Testing Standards and Training Aviation Rulemaking Committee: Recommendations to Enhance Airman Knowledge Test Content and Its Processes and Methodologies for Training and Testing (www.faa.gov/aircraft/draft_docs/arc);

2. A report from the Airman Testing Standards and Training Working Group to the Aviation Rulemaking Advisory Committee;

3. Aeronautical knowledge standards set forth in 14 CFR part 61, Certification: Pilots, Flight Instructors, and Ground Instructors;

4. Flight proficiency standards set forth in 14 CFR part 61, Certification: Pilots, Flight Instructors, and Ground Instructors;

5. FAA Airman Knowledge Test Guide (FAA-G-8082-17E);

6. Current Practical Test Standards documents for Private Pilot Airplane (FAA-S-8081-14B); Flight Instructor Airplane (FAA-S-8081-6C); and Instrument Rating for Airplane, Helicopter, and Powered Lift (FAA-S-8081-4E); and

7. Current FAA guidance materials, to include the Pilot's Handbook of Aeronautical Knowledge (FAA-H-8083-25A); the Airplane Flying Handbook (FAA-H-8083-3A); the Aviation Instructor's Handbook (FAA-H-8083-9A); the Instrument Flying Handbook (FAA-H-8083-15A); and the Instrument Procedures Handbook (FAA-H-8083-1A).

Schedule

The report must be forwarded to the ARAC for review and approval no later than December 31, 2015.

ARAC Acceptance of New Task

The ARAC has accepted the task and will assign it to the ARAC ACSWG. The ACSWG serves as staff to ARAC and assists in the analysis of the assigned new task. ARAC must review and approve the ACSWG's report. If ARAC accepts the ACSWG's written report, it will transmit it to the FAA.

Working Group Activity

The ACSWG must comply with the procedures adopted by ARAC. As part of the procedures, the ACSWG must:

1. Recommend a work plan for completion of the task, including the rationale supporting such a plan, for consideration at the next ARAC meeting held following publication of this notice.

2. Provide a status report at each meeting of the ARAC.

3. Draft the report and required analyses and/or any other related materials or documents.

4. Present the final report to the ARAC for review and approval.

Participation in the ARAC Working Group

The ACSWG will be comprised of aviation professionals with experience and expertise in airman training and testing, and technical experts having an interest in the assigned new task. The FAA would like a wide range of members, to include individuals with experience in the part 61, part 121, part 135, part 141, and part 142 communities, to ensure that all appropriate aspects of airman testing and training, including best practices, are considered in the development of its report.

If you wish to become a member of the ACSWG, please write the person listed under the caption FOR FURTHER INFORMATION CONTACT expressing such desire. Describe your interest in the new task and state the expertise you would bring to the ACSWG. We must receive all requests by February 28, 2014.

The ARAC and the FAA will review the requests and advise you whether your request is approved.

If you are chosen for membership on the ACSWG, you must actively participate by attending all meetings and providing written comments when requested to do so. You must devote the resources necessary to support the ACSWG in meeting any assigned deadlines. You must keep your management chain, and those you may represent, advised of the ACSWG's activities and decisions to ensure the proposed technical solutions do not conflict with your sponsoring organization's position, when the subject is presented to ARAC for approval. Once the ACSWG has begun deliberations, members will not be added or substituted without the approval of the FAA and the ACSWG Chair.

The Secretary of Transportation determined the formation and use of ARAC is necessary and in the public interest in connection with the performance of duties imposed on the FAA by law. ARAC meetings are open to the public. However, ARAC Working Group meetings are not open to the public, except to the extent individuals with an interest and expertise are selected to attend. The FAA will make no public announcement of the Working Group's meetings.

Issued in Washington, DC, on January 24, 2014.
Lirio Liu,
Designated Federal Officer, Aviation Rulemaking Advisory Committee.

[FR Doc. 2014-01673 Filed 1-28-14; 8:45 am]

BILLING CODE 4910-13-P